DEPARTMENT OF JUSTICE

Community Oriented Policing Services Public Meetings With Members of the Research Community, Subject-Matter Experts and the Public To Discuss Topics Relating to Policing; Correction

AGENCY: Community Oriented Policing Services, Justice.

ACTION: Notice; correction.

SUMMARY: The U.S. Department of Justice published a document in the Federal Register of January 29, 2015, concerning a public meeting notice to discuss topics relating to policing. The document contains an updated address for the meeting location.

FOR FURTHER INFORMATION CONTACT: Ronald L. Davis, 202-514-4229 or PolicingTaskForce@usdoj.gov.

Correction

In 80 FR 4947, published on January 29, 2015, correct the ADDRESSES caption to read:

ADDRESSES: The meeting location is the Executive Conference Center, Lecture Hall, Phoenix Convention Center, 100 N. 3rd Street, Phoenix, AZ 85004 (Second Level, Room 207). In order to be considered by the Task Force in advance of the meeting, comments relating to the topic areas of Community Policing & Crime Reduction and Training & Education should be emailed in Adobe Acrobat format to Comment@taskforceonpolicing.us by Friday, February 6, 2015. Written comments should be no more than five pages in length and no smaller than 12 point font. Citations should be put in an “endnote” format and do not count towards the page limit. Recommendations should be clearly identified in the text of the testimony. The public may also submit comments via U.S. Mail to: President's Task Force on Policing in the 21st Century, Office of Community Oriented Policing Services, U.S. Department of Justice, 145 N Street NE., 11th Floor, Washington, DC 20530.

Dated: February 4, 2015.
Melanca Clark,
Chief of Staff.

[FR Doc. 2015-02738 Filed 2-9-15; 8:45 am]

BILLING CODE 4410-AT-P